DEPARTMENT OF ENERGY

Office of Energy Efficiency and Renewable Energy

Biomass Research and Development Technical Advisory Committee

AGENCY: Department of Energy.

ACTION: Notice of Open Meeting.

SUMMARY: This notice announces an open meeting of the Biomass Research and Development Technical Advisory Committee under the Biomass Research and Development Act of 2000. The Federal Advisory Committee Act (Public Law No. 92-463, 86 Stat. 770) requires that agencies publish these notices in the Federal Register to allow for public participation. This notice announces the meeting of the Biomass Research and Development Technical Advisory Committee.

DATES AND TIMES: February 13, 2007 from 8:30 a.m. to 4:30 p.m., February 14, 2007 from 8:30 a.m. to 3 p.m.

ADDRESSES: Doubletree Hotel Orlando, At the Entrance to Universal Orlando, 5780 Major Boulevard, Orlando, FL 32819, (407) 351-1000, http://www.doubletree.com/en/dt/hotels/index.jhtml?ctyhocn=MCOUNDT.

FOR FURTHER INFORMATION CONTACT: Neil Rossmeissl, Designated Federal Officer for the Committee, Office of Energy Efficiency and Renewable Energy, U.S. Department of Energy, 1000 Independence Avenue, SW., Washington, DC 20585; (202) 586-8668 or Harriet Foster at (202) 586-4541; E-mail: harriet.foster@ee.doe.gov.

SUPPLEMENTARY INFORMATION: Purpose of Meeting: To provide advice and guidance that promotes research and development leading to the production of biobased fuels and biobased products.

Tentative Agenda: Agenda will include the following:

• Receive update on USDA—DOE collaboration.

• Receive update on the status of the fiscal year 2007 USDA—DOE joint Biomass R&D solicitation.

• Receive update on DOE activities from the Designated Federal Officer (DFO).

• Presentation on feedstocks analysis efforts.

• Possible media event regarding the updated Vision.

• Provide input on draft updated Roadmap.

• Discuss Analysis subcommittee business.

• Discuss Policy subcommittee business, including comments and proposed annual recommendations from the Policy Gap Analysis document.

• Discuss Communications subcommittee business.

• Review progress presentations from Florida and Southeastern-area Biomass R&D projects funded by the USDA—DOE joint solicitation.

• Discuss recommendations for fiscal year 2007.

• Review 2007 Work Plan.

• Discuss Biomass R&D Planning Opportunities.

Public Participation: In keeping with procedures, members of the public are welcome to observe the business of the Biomass Research and Development Technical Advisory Committee. To attend the meeting and/or to make oral statements regarding any of the items on the agenda, you should contact Neil Rossmeissl at 202-586-8668 or the Biomass Initiative at 202-586-4541 or harriet.foster@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC on January 24, 2007.
Rachel M. Samuel,
Deputy Advisory Committee Management Officer.

[FR Doc. E7-1504 Filed 1-30-07; 8:45 am]

BILLING CODE 6450-01-P